GENERAL SERVICES ADMINISTRATION

[Notice MV-2020-03; Docket No. 2020-0002; Sequence No. 29]

Notice of Date Change for GSA Virtual Webinar regarding GSA's Implementation of Section 889 of the FY 2019 National Defense Authorization Act (NDAA)

AGENCY: Office of Governmentwide Policy (OGP), General Services Administration (GSA).

ACTION: Meeting notice.

SUMMARY: The General Services Administration (GSA) previously announced in its July 22, 2020 Federal Register notice that it planned to hold a live and recorded virtual webinar on August 12, 2020. That virtual webinar date has been changed to September 10, 2020.

DATES: Thursday, September 10, 2020, at 1:00 p.m. Eastern Standard Time (EST).

ADDRESSES: The webinar will be held virtually and the call-in information will be made available to registrants. Industry partners wishing to virtually attend must register at: https://gsa.zoomgov.com/webinar/register/WN_hQ6tHTRDR-mMNnRRxJy22Q. Members of the press, in addition to registering for this event, must also RSVP to press@gsa.gov by Tuesday, September 8, 2020.

FOR FURTHER INFORMATION CONTACT: Patricia Richardson at patricia.m.richardson@gsa.gov or Maria Swaby at 202-208-0291.

Authority: National Defense Authorization Act (NDAA) for Fiscal Year 2019, Title VII, Section 889.

Maria Swaby,
GSA Procurement Ombudsman, General Services Administration.

[FR Doc. 2020-17606 Filed 8-11-20; 8:45 am]

BILLING CODE 6820-61-P